DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 17, 2007.

Interested persons are invited to submit written comments regarding the subject matter of the investigations to the Director, Division of Trade Adjustment Assistance, at the address shown below, not later than September 17, 2007.

The petitions filed in this case are available for inspection at the Office of the Director, Division of Trade Adjustment Assistance, Employment and Training Administration, U.S. Department of Labor, Room C-5311, 200 Constitution Avenue, NW., Washington, DC 20210.

Signed at Washington, DC, this 28th day of August 2007.
Ralph Dibattista,
Director, Division of Trade Adjustment Assistance.

Appendix

TAA Petitions Instituted Between 8/20/07 and 8/24/07
TA-W | Subject firm (petitioners) | Location | Date of institution | Date of petition
62005 | Novacel, Inc. (Comp) | Newton, MA | 08/20/07 | 08/17/07
62006 | Albany International Corp. (UFCWIU) | Mennands, NY | 08/20/07 | 08/16/07
62007 | VanSeal (frmly John Crane, Inc.) (State) | Vandalia, IL | 08/20/07 | 08/17/07
62008 | Encompass Group, LLC (Comp) | McDonough, GA | 08/20/07 | 08/17/07
62009 | Global Motorsport GPR Inc. (State) | Valencia, CA | 08/20/07 | 08/03/07
62010 | Cargill (Wkrs) | Sidney, OH | 08/20/07 | 08/17/07
62011 | Art Leather Manufacturing Company (Wkrs) | Hicksville, NY | 08/21/07 | 08/20/07
62012 | Clayson Knitting Company, Inc. (Comp) | Red Springs, NC | 08/21/07 | 08/20/07
62013 | Columbia Lighting (Comp) | Spokane, WA | 08/21/07 | 08/16/07
62014 | Finotex (State) | Hialeah, FL | 08/21/07 | 08/12/07
62015 | Kester (State) | Des Plaines, IL | 08/21/07 | 08/15/07
62016 | Karastan Rug Plant (Union) | Eden, NC | 08/21/07 | 08/20/07
62017 | Fargo Electronics (State) | Eden Prarie, MN | 08/21/07 | 08/20/07
62018 | Hi Rel Systems (Comp) | Hillsboro, OR | 08/21/07 | 08/21/07
62019 | Brandon International (Comp) | Baldwin Park, CA | 08/21/07 | 08/15/07
62020 | Denton Hosiery Mills Inc. (Comp) | Denton, NC | 08/22/07 | 08/23/07
62021 | Emcore Corporation (Wkrs) | Albuquerque, NM | 08/22/07 | 08/21/07
62022 | Irwin Industrial Tool (State) | DeWitt, NE | 08/22/07 | 08/21/07
62023 | Selectrucks Refurbishing Center (Comp) | Tooele, UT | 08/22/07 | 08/24/07
62024 | CDS /Ensembles, Inc. (Comp) | Greer, SC | 08/23/07 | 08/01/07
62025 | Seminole Tubular Products—Wheatland Tube Company (State) | Houston, TX | 08/23/07 | 08/20/07
62026 | TI Automotive (Comp) | Normal, IL | 08/23/07 | 08/21/07
62027 | General Products Corporation (Wkrs) | Jackson, MI | 08/23/07 | 08/16/07
62028 | Deluxe Tool and Engineering, Inc. (Comp) | Wyoming, MN | 08/23/07 | 08/22/07
62029 | Foxcroft Sportswears (Comp) | Fall River, MA | 08/23/07 | 08/21/07
62030 | Alcan (State) | City of Commerce, CA | 08/23/07 | 08/10/07
62031 | Laird Technologies (Wkrs) | St. Louis, MO | 08/23/07 | 08/20/07
62032 | DGS Stamping (UAW) | Cleveland, OH | 08/23/07 | 08/15/07
62033 | Textile Arts and Film, Inc. (Wkrs) | Chester, SC | 08/23/07 | 08/15/07
62034 | Wavesplitter Tech Inc. (Wkrs) | Santa Clara, CA | 08/23/07 | 08/13/07
62035 | Kadant Web Systems (Comp) | Auburn, MA | 08/24/07 | 08/22/07
62036 | Clover Technologies Group, LLC (Comp) | Mesa, AZ | 08/24/07 | 08/20/07
62037 | Avon Automotive (Comp) | Cadillac, MI | 08/24/07 | 08/20/07
62038 | Albany International Corp. (Union) | Rensselaer, NY | 08/24/07 | 08/16/07
62039 | Hole In None Hosiery (Comp) | Burlington, NC | 08/24/07 | 08/22/07
62040 | The Colibri Group (Comp) | Providence, RI | 08/24/07 | 08/23/07
62041 | Johnson Controls (State) | Santa Fe Springs, CA | 08/24/07 | 08/09/07
62042 | Tecumseh Power Company (IAM) | Grafton, WI | 08/24/07 | 08/22/07
62043 | Synergis Technologies (Wkrs) | Grand Rapids, MI | 08/24/07 | 08/24/07

[FR Doc. E7-17470 Filed 9-4-07; 8:45 am]

BILLING CODE 4510-FN-P